FEDERAL COMMUNICATIONS COMMISSION

[DA 12-15]

Video Programming and Accessibility Advisory Committee; Announcement of Date of Next Meeting

AGENCY: Federal Communications Commission.

ACTION: Notice.

SUMMARY: This document announces the next meeting of the Video Programming Accessibility Advisory Committee (“Committee” or “VPAAC”). The Committee will continue developing recommendations for the Commission regarding the provision of video description, access to emergency programming, and access to user interfaces, menus, and programming guides viewed on equipment used to deliver video programming, as required in the Twenty-First Century Communications and Video Accessibility Act of 2010 (CVAA). This and all meetings of the VPAAC are open to the public.

DATES: The Committee's next meeting will be held on Thursday, February 9, 2012, 9 a.m. to 5 p.m. (EST).

ADDRESSES: Federal Communications Commission, 445 12th Street SW., Commission Meeting Room, Washington, DC 20554.

FOR FURTHER INFORMATION CONTACT: Pam Gregory, Consumer and Governmental Affairs Bureau, (202) 418-2498 (voice), (202) 418-1169 (TTY), email: Pam.Gregory@fcc.gov; or Alison Neplokh, Media Bureau, (202) 418-1083, email: Alison.Neplokh@fcc.gov.

SUPPLEMENTARY INFORMATION: On December 7, 2010, in document DA 10-2320, Chairman Julius Genachowski announced the establishment and appointment of members of the VPAAC, following a nominations period that closed on November 1, 2010. The purpose of the VPAAC is to develop recommendations on closed captioning of Internet programming previously captioned on television; the compatibility between video programming delivered using Internet protocol and devices capable of receiving and displaying such programming to facilitate access to captioning, video description and emergency information; video description and accessible emergency information on television programming delivered using Internet protocol or digital broadcast television; accessible user interfaces on video programming devices; and accessible programming guides and menus. Within six months of its first meeting, the VPAAC submitted its recommendations to the Commission concerning the provision of closed captions for Internet-delivered video programming and the ability of video devices to pass through closed captions contained on Internet-based video programming. By April 8, 2012, the VPAAC shall submit recommendations on the remaining issues listed above. At the February 9, 2012 VPAAC meeting, members will continue to develop recommendations for the Commission regarding video description, access to emergency programming, and access to user interfaces, menus, and programming guides viewed on equipment used to deliver video programming. To request materials in accessible formats for people with disabilities (Braille, large print, electronic files, audio format), send an email to fcc504@fcc.gov or call the Consumer and Governmental Affairs Bureau at (202) 418-0530 (voice), (202) 418-0432 (TTY).

Federal Communications Commission.
Karen Peltz Strauss,
Deputy Chief, Consumer and Governmental Affairs Bureau.

[FR Doc. 2012-2754 Filed 2-6-12; 8:45 am]

BILLING CODE 6712-01-P